DEPARTMENT OF ENERGY

Energy Information Administration

Agency Information Collection Extension With Changes

AGENCY: U.S. Energy Information Administration (EIA), U.S. Department of Energy (DOE).

ACTION: Notice and request for OMB review and comment.

SUMMARY: EIA submitted an information collection request for extension as required by the Paperwork Reduction Act of 1995. The information collection requests a three-year extension with changes to its Petroleum Marketing Program, OMB Control Number 1905-0174. The Petroleum Marketing Program collects and publishes data on the nature, structure, and efficiency of petroleum markets at national, regional, and state levels. EIA uses this information to monitor volumes and prices for crude oil and petroleum products.

DATES: Comments on this information collection must be received no later than June 6, 2019. If you anticipate any difficulties in submitting your comments by the deadline, contact the DOE Desk Officer at (202) 395-4718.

ADDRESSES: Written comments should be sent to

DOE Desk Officer: Brandon DeBruhl, Office of Information and Regulatory Affairs, Office of Management and Budget, New Executive Office Building, Room 10102, 735 17th Street NW, Washington, DC 20503, Brandon_F_DeBruhl@omb.eop.gov.

And send a copy to

Ms. Tammy Heppner, U.S. Department of Energy, U.S. Energy Information Administration, EI-25, 1000 Independence Avenue SW, Washington, DC 20585, tammy.heppner@eia.gov.

FOR FURTHER INFORMATION CONTACT: Tammy Heppner (202) 586-4748, email: tammy.heppner@eia.gov. The forms and instructions are available on EIA's website at http://www.eia.gov/survey/notice/marketing2019.php.

SUPPLEMENTARY INFORMATION:

This information collection request contains

(1) OMB No.: 1905-0174.

(2) Information Collection Request Title: Petroleum Marketing Program. The surveys included in this information collection request are:

• Form EIA-14, Refiners' Monthly Cost Report

• Form EIA-182, Domestic Crude Oil First Purchase Report

• Form EIA-782A, Refiners'/Gas Plant Operators' Monthly Petroleum Product Sales Report

• Form EIA-782C, Monthly Report of Prime Supplier Sales of Petroleum Products Sold For Local Consumption

• Form EIA-821, Annual Fuel Oil and Kerosene Sales Report

• Form EIA-856, Monthly Foreign Crude Oil Acquisition Report

• Form EIA-863, Petroleum Product Sales Identification Survey

• Form EIA-877, Winter Heating Fuels Telephone Survey

• Form EIA-878, Motor Gasoline Price Survey

• Form EIA-888, On-Highway Diesel Fuel Price Survey

(3) Type of Request: Three-year extension with changes;

(4) Purpose: The purpose of the Petroleum Marketing Program is to provide data pertaining to the nature, structure, and operating efficiency of petroleum markets. The surveys in this petroleum program collect volumetric and price information needed to determine supply and demand for crude oil and refined petroleum products.

These data are published by EIA on its website, http://www.eia.gov, as well as in publications such as the Monthly Energy Review (http://www.eia.gov/totalenergy/data/monthly/), Annual Energy Review (http://www.eia.gov/totalenergy/data/annual/), Petroleum Marketing Monthly (http://www.eia.gov/oil_gas/petroleum/data_publications/petroleum_marketing_monthly/pmm.html), Weekly Petroleum Status Report (http://www.eia.gov/oil_gas/petroleum/data_publications/weekly_petroleum_status_report/wpsr.html), and the International Energy Outlook (http://www.eia.gov/forecasts/ieo/);

(4a) Changes to Information Collection: EIA will protect the information collected on Form EIA-877, Winter Heating Fuels Telephone Survey under the Confidential Information Protection and Statistical Efficiency Act of 2018 (CIPSEA). CIPSEA provides legal authority to protect the identifiability of information submitted under a pledge of confidentiality and restricts the use of the information only for statistical purposes. It provides strong protection that the reported information will be held in confidence and used only for statistical purposes. By limiting the use to statistical purposes, the Form EIA-877 survey data will not be used for any nonstatistical purpose such as administrative, regulatory, or law enforcement or for any other nonstatistical purpose. EIA will use the following confidentiality pledge to protect information reported on Form EIA-877:

“The information you provide on Form EIA-877 will be used for statistical purposes only and is confidential by law. Per the Federal Cybersecurity Enhancement Act of 2015, Federal information systems are protected from malicious activities through cybersecurity screening of transmitted data. Every EIA employee, as well as every agent, is subject to a jail term, a fine, or both if he or she makes public any identifiable information you reported.”

(5) Annual Estimated Number of Respondents: 22,822;

(6) Annual Estimated Number of Total Responses: 175,084;

(7) Annual Estimated Number of Burden Hours: 63,325;

(8) Annual Estimated Reporting and Recordkeeping Cost Burden: $4,687,317. The cost of the burden hours is estimated to be $4,687,317 (63,325 burden hours times $74.02 per hour). EIA estimates that there are no additional costs to respondents associated with the surveys other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq.

Signed in Washington, DC, on April 30, 2019.
Nanda Srinivasan,
Director, Office of Survey Development and Statistical Integration, U. S. Energy Information Administration.

[FR Doc. 2019-09343 Filed 5-6-19; 8:45 am]

BILLING CODE 6450-01-P